DEPARTMENT OF THE INTERIOR

Bureau of Land Management

[CO-800-1610-DP 016C]

DEPARTMENT OF AGRICULTURE

Forest Service

Notice of Extension of Comment Period for the Draft San Juan Land Management Plan and Draft Environmental Impact Statement, Colorado

AGENCY: Bureau of Land Management, Interior. Forest Service, Agriculture.

ACTION: Notice of Comment Period Extension.

SUMMARY: The Bureau of Land Management (BLM) and Forest Service (FS) are announcing an extension of the comment period on the Draft Land Management Plan, Draft Environmental Impact Statement (DLMP/DEIS) for the public and National Forest System Lands under their jurisdiction and by this notice is announcing the extension of the comment period. The original notice published in the Federal Register on December 14, 2007 [72 FR 71148] and provided for a comment period to end on March 12, 2007.

DATES: The BLM and FS are extending the comment period for 30 days ending on April 11, 2008.

ADDRESSES: The Draft LMP/DEIS is posted on the Internet at http://ocs.fortlewis.edu/forestPlan. You may submit comments by any of the following methods:

• Web site: http://ocs.fortlewis.edu/forestPlan.

• Facsimile: (916) 456-6724.

• Mail: LMP Comments, San Juan Plan Revision, P.O. Box 162909, Sacramento, California 95816-2909.

Comments, including names and addresses of respondents, will be available for public review at the San Juan Public Lands Center, and will be subject to disclosure under the Freedom of Information Act (FOIA). Before including your address, phone number, e-mail address, or other personal identifying information in your comment, be advised that your entire comment—including your personal identifying information—may be made publicly available at any time. While you can ask us in your comment to withhold from public review your personal identifying information, we cannot guarantee that we will be able to do so. All submissions from organizations and businesses, and from individuals identifying themselves as representatives or officials of organizations or businesses, will be available for public inspection in their entirety.

FOR FURTHER INFORMATION CONTACT: Shannon Manfredi, Planning Team Leader at San Juan Public Land Center. Phone: (970) 385-1229.

SUPPLEMENTARY INFORMATION: The original Notice of Availability provided for comments on the Draft LMP/EIS to be received through March 12, 2008. The BLM and FS received requests for an extension of the comment period from individuals and groups. The BLM and FS are agreeing with these requests. Comments on the Draft Land Management Plan and Environmental Impact Statement will now be accepted through April 11, 2008.

Dated: February 26, 2008.
Dave Hunsaker,
Acting State Director, BLM.
Dated: February 26, 2008.
Randall Karstaedt,
Director of Physical Resources, Region 2, Forest Service.

[FR Doc. E8-4264 Filed 3-4-08; 8:45 am]

BILLING CODE 4310-DK-P